SMALL BUSINESS ADMINISTRATION

Reporting and Recordkeeping Requirements Under OMB Review

AGENCY: U.S. Small Business Administration.

ACTION: 30-Day notice; request for comments.

SUMMARY: The Small Business Administration will submit the information collection described below to the Office of Management and Budget (OMB) for review and clearance in accordance with the Paperwork Reduction Act of 1995, on or after the date of publication of this notice. SBA published the required 60-day public comment notice in the Federal Register on December 2, 2021, and is publishing this notice to allow all interested members of the public an additional 30 days to provide comments on the collection of information.

DATES: Submit comments on or before March 2, 2022.

ADDRESSES: Written comments and recommendations for this information collection request should be submitted through “www.reginfo.gov/public/do/PRAMain.” Find this information collection request by selecting “Small Business Administration”; “Currently Under Review,” then selecting “Only Show ICR for Public Comment.” This information collection can be identified by the title and/or OMB Control Number identified below.

FOR FURTHER INFORMATION CONTACT: Adrienne Grierson, Program Manager, at adrienne.grierson@sba.gov; 202-205-6573, or Curtis B. Rich, Management Analyst, 202-205-7030; curtis.rich@sba.gov.

SUPPLEMENTARY INFORMATION: Section 1102 of the Coronavirus Aid, Relief, and Economic Security (CARES) Act, Public Law 116-136, authorized SBA to guarantee loans made by banks or other financial institutions under a new temporary 7(a) program titled the “Paycheck Protection Program” (“PPP”) to small businesses, certain non-profit organizations, veterans' organizations, Tribal business concerns, independent contractors and self-employed individuals adversely impacted by the Coronavirus Disease (COVID-19) Emergency. This authority initially expired on August 8, 2020. The Economic Aid to Hard-Hit Small Businesses, Nonprofits, and Venues Act (Economic Aid Act), Public Law 116-260, renewed SBA's authority to make PPP loans until March 31, 2021, and added authority for second draw PPP loans under § 7(a)(37) of the Small Business Act. The program authority was further extended until June 30, 2021, by the PPP Extension Act of 2021, Public Law 117-6.

This information collection is currently approved for the PPP Loan Program under the emergency procedures authorized by 5 U.S.C. 3507(j) and 5 CFR 1320.13. This approval will expire on January 31, 2022. Although SBA's PPP program authority has expired, this information collection is still needed for the following reasons: (1) PPP borrowers may apply for forgiveness of their loans up to the date of loan maturity, which may be as late as 2026; (2) SBA may review a PPP loan at any time; and (3) pending litigation may require the collection of information. Therefore, as required by the Paperwork Reduction Act, SBA is publishing this notice as a prerequisite to seeking OMB's approval to ensure this information collection is available for use beyond January 31, 2022. As part of that process, SBA is requesting comments from the public on (a) whether the collection of information is necessary for the agency to properly perform its functions; (b) whether the burden estimates are accurate; (c) whether there are ways to minimize the burden, including the use of automated techniques or other forms of information technology; and (d) whether there are ways to enhance the quality, utility, and clarity of the information.

Title: Paycheck Protection Loan Program Borrower Information Form and Lender's Application for Loan Guaranty.

OMB Control Number: 3245-0407.

(I) SBA Form 2483—Paycheck Protection Program Borrower Application Form.

Description of Respondents: PPP loan applicants.

Estimated Number of Respondents: 9,279,434.

Estimated Annual Responses: 9,279,434.

Estimated Annual Hour Burden: 1,237,258.

(II) SBA Form 2483-C—Paycheck Protection Program Borrower Application From for Schedule C Filers Using Gross Income.

Description of Respondents: PPP loan applicants.

Estimated Number of Respondents: 239,160.

Estimated Annual Responses: 239,160.

Estimated Annual Hour Burden: 31,888.

(III) SBA Form 2484—Paycheck Protection Program Lender's Application—Paycheck Protection Program Loan Guaranty.

Description of Respondents: PPP lenders.

Estimated Number of Respondents: 5,467.

Estimated Annual Responses: 9,218,594.

Estimated Annual Hour Burden: 3,841,081.

(IV) SBA Form 3506—CARES Act Section 1102 Lender Agreement.

Description of Respondents: PPP lenders.

Estimated Number of Respondents: 775.

Estimated Annual Responses: 775.

Estimated Annual Hour Burden: 129.

(V) SBA Form 3507—CARES Act Section 1102 Lender Agreement—Non-Bank and Non-Insured Depository Institution Lenders.

Description of Respondents: PPP lenders.

Estimated Number of Respondents: 169.

Estimated Annual Responses: 169.

Estimated Annual Hour Burden: 70.

(VI) SBA Form 3508—Paycheck Protection Program—Loan Forgiveness Application.

Description of Respondents: PPP borrowers.

Estimated Number of Respondents: 591,180.

Estimated Annual Responses: 591,180.

Estimated Annual Hour Burden: 1,773,539.

(VII) SBA Form 3508EZ—Paycheck Protection Program—PPP Loan Forgiveness Application Form EZ.

Description of Respondents: PPP borrowers.

Estimated Number of Respondents: 1,773,539.

Estimated Annual Responses: 1,773,539.

Estimated Annual Hour Burden: 591,180.

(VIII) SBA Form 3508S, Paycheck Protection Program—PPP Loan Forgiveness Application Form 3508S.

Description of Respondents: PPP borrowers.

Estimated Number of Respondents: 9,458,875.

Estimated Annual Responses: 9,458,875.

Estimated Annual Hour Burden: 2,364,719.

(IX) SBA Form 3508D—Paycheck Protection Program Borrower's Disclosure of Certain Controlling Interests.

Description of Respondents: PPP borrowers.

Estimated Number of Respondents: 350.

Estimated Annual Responses: 350.

Estimated Annual Hour Burden: 29.

(X) [Form Number N/A] Lender Reporting Requirements Concerning Requests for Loan Forgiveness.

Description of Respondents: PPP lenders.

Estimated Number of Respondents: 5,467.

Estimated Annual Responses: 11,824,000.

Estimated Annual Hour Burden: 2,107,121.

(XI) [Form Number N/A] Lender Reporting Requirements for SBA Loan Reviews.

Description of Respondents: PPP lenders.

Estimated Number of Respondents: 5,467.

Estimated Annual Responses: 2,000,000.

Estimated Annual Hour Burden: 1,000,000.

Curtis B. Rich,
Management Analyst.

[FR Doc. 2022-01642 Filed 1-26-22; 8:45 am]

BILLING CODE 8026-03-P